DEPARTMENT OF TRANSPORTATION

Federal Aviation Administration

Third Meeting: RTCA Special Committee (234) Portable Electronic Devices (PEDs) and EUROCAE WG-99 Plenary #6

AGENCY: Federal Aviation Administration (FAA), U.S. Department of Transportation (DOT).

ACTION: Notice of Third RTCA Special Committee 234 Meeting.

SUMMARY: The FAA is issuing this notice to advise the public of the Third RTCA Special Committee 234 meeting.

DATES: The meeting will be held January 20-22 from 08:30 a.m.-5:00 p.m.

ADDRESSES: The meeting will be held at RTCA, Inc., 1150 18th Street NW., Suite 910, Washington, DC, 20036, Tel: (202) 330-0680.

FOR FURTHER INFORMATION CONTACT: The RTCA Secretariat, 1150 18th Street NW., Suite 910, Washington, DC, 20036, or by telephone at (202) 833-9339, fax at (202) 833-9434, or Web site at http://www.rtca.org or Karan Hofmann, Program Director, RTCA, Inc., khofmann@rtca.org, (202) 330-0680.

SUPPLEMENTARY INFORMATION: Pursuant to section 10(a) (2) of the Federal Advisory Committee Act (Pub. L. 92-463, 5 U.S.C., App.), notice is hereby given for a meeting of RTCA Special Committee 234. The agenda will include the following:

Wednesday, January 20, 2015

1. Welcome and Administrative Remarks

2. Introductions

3. Agenda Review

4. Meeting-Minutes Review

5. Status Report of Task-Group Leaders (TG #1-#4)

a. TG-1—General Background, Regulations, App, etc

b. TG-2—Front Door Guidance

c. TG-3—Back Door Guidance

d. TG-4—Continuous Airworthiness

6. Review of Completeness of previous WG-99/SC-234 tasks

7. Integration of outcome into Revised ED-130 and new RTCA document structure

8. DO-307 Update

9. Review of program schedule

10. Any other Business

11. Date and Place of Next Meeting

12. Adjourn

Thursday, January 21, 2015

1. Continuation of Plenary or Working Group Session

Friday, January 22, 2015

1. Continuation of Plenary or Working Group Session

Attendance is open to the interested public but limited to space availability. With the approval of the chairman, members of the public may present oral statements at the meeting. Plenary information will be provided upon request. Persons wishing to present statements or obtain information should contact the person listed in the FOR FURTHER INFORMATION CONTACT section. Members of the public may present a written statement to the committee at any time.

Issued in Washington, DC, on November 10, 2015.
Latasha Robinson,
Management & Program Analyst, Next Generation, Enterprise Support Services Division, Federal Aviation Administration.

[FR Doc. 2015-29388 Filed 11-17-15; 8:45 am]

BILLING CODE 4910-13-P